ENVIRONMENTAL PROTECTION AGENCY

[EPA-HQ-OPP-2009-0190; FRL-8409-9]

National Bed Bug Summit; Change of Location of the Public Meeting

AGENCY: Environmental Protection Agency (EPA).

ACTION: Notice.

SUMMARY: EPA is changing the location of its National Bed Bug Summit in order to accommodate the expected attendance. The meeting will be held on April 14 through April 15, 2009, on the topic of bed bug resurgence in the United States. The aim of the session will be to share information and knowledge on the topic of bed bugs and their newfound resurgence, provide a venue to identify ideas and opinions for their control, and develop recommendations as how affected stakeholders, communities, and local jurisdictions can begin to address the emerging nationwide bed bug problem.

DATES: The meeting will be held on April 14 and 15, 2009, from 9 .m. to 6 p.m. on the first day, and from 9 a.m. to noon on the last day.

To request accommodation of a disability, please contact the person listed under FOR FURTHER INFORMATON CONTACT, preferably at least 10 days prior to the meeting, to give EPA as much time as possible to process your request.

ADDRESSES: The meeting will now be held in the Sheraton Crystal City Hotel, 1800 Jefferson Davis Hwy., Arlington, VA 22202; (703) 769-3942; http://www.sheraton.com/crystalcity.

FOR FURTHER INFORMATION CONTACT: Karen Angulo, Registration Division (7505P), Office of Pesticide Programs, Environmental Protection Agency, 1200 Pennsylvania Ave., NW., Washington, DC 20460-0001; telephone number: (703) 306-0404; fax number: (703) 308-0029; e-mail address: angulo.karen @epa.gov.

SUPPLEMENTARY INFORMATION:

I. General Information

A. Does this Action Apply to Me?

This action is directed to the public in general, and may be of particular interest to persons who work in agricultural settings or persons who are concerned about implementation of the Federal Insecticide, Fungicide, and Rodenticide Act (FIFRA); the Federal Food, Drug, and Cosmetic Act (FFDCA); and the amendments to both of these major pesticide laws by the Food Quality Protection Act of 1996 (FQPA). Potentially affected entities may include, but are not limited to: Agricultural workers and farmers; pesticide industry and trade associations; environmental, consumer, and farmworker groups; pesticide users and growers; pest consultants; State, local, and Tribal governments; academia; public health organizations; and the public. If you have questions regarding the applicability of this action to a particular entity, consult the person listed under FOR FURTHER INFORMATION CONTACT.

B. How Can I Get Copies of this Document and Other Related Information?

1. Docket. EPA has established a docket for this action under docket ID number EPA-HQ-OPP-2009-0190. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

The resurgence of the common bed bug is increasingly reaching levels that are critical and affecting all areas of the country. As this resilient pest has become a nationwide problem affecting hotels, universities, and homes in the general population, it is important that the EPA assist in exploring means of effectively identifying challenges and ways to remedy this pest concern. Potential participants for this forum include Federal, State, and local government agencies responsible for public health and public housing; researchers and academicians; health, housing, and environmental advocacy organizations; the pest management industry; pesticide manufacturers; and other interested parties. All interested parties are encouraged to participate and share in the development of strategies to address the national bed bug dilemma.

III. How Can I Request to Participate in this Meeting?

EPA received a large number of requests to attend the National Bed Bug Summit from the initial meeting announcement published in the Federal Register of March 18, 2009 (74 FR 11550) (FRL-8407-1). In order to accommodate the number of people expected, EPA has secured larger meeting space. Therefore, the meeting location has been changed to the Sheraton Crystal City Hotel, 1800 Jefferson Davis Hwy., Arlington, VA 22202; (703) 769-3942; http://www.sheraton.com/crystalcity. The Sheraton Crystal City Hotel is located one block from the Crystal City Metro stop, and is close to Ronald Reagan Washington National Airport (DCA).

The National Bed Bug Summit meeting is open to the public and seating is available on a first come basis. Persons interested in attending do not need to register in advance of the meeting and there is no registration fee. Lodging and transportation are not being provided. No RSVP is required. An information package that contains a meeting overview, directions, close-by hotels, transportation options, etc., is available at http://www.epa.gov/pesticides.

List of Subjects

Environmental protection, Chemicals, Pesticides and pests, Public health.

Dated: March 30, 2009.
Daniel J. Rosenblatt,
Acting Director, Registration Division, Office of Pesticide Programs.

[FR Doc. E9-7661 Filed 4-1-09; 4:15 pm]

BILLING CODE 6560-50-S